DEPARTMENT OF HOMELAND SECURITY

U.S. Customs and Border Protection

[Docket No. USCBP-2008-0002]

Notice of the Meeting of the U.S. Customs and Border Protection Airport and Seaport Inspections User Fee Advisory Committee

AGENCY: U.S. Customs and Border Protection, Department of Homeland Security (DHS).

ACTION: Notice of Federal Advisory Committee meeting.

SUMMARY: The U.S. Customs and Border Protection (“CBP”) Airport and Seaport Inspections User Fee Advisory Committee (“Advisory Committee”) will meet in open session. The meeting will be open to the public.

DATES: Wednesday, March 5, 2008, 12 p.m. to 4 p.m. Please note that the meeting may close early if all business is finished.

ADDRESSES: The meeting will be held at Conference Room B 1.5-25, Ronald Reagan Building, 1300 Pennsylvania Avenue, NW., Washington, DC. Written material, comments, requests to make oral presentations, and requests to have a copy of your material distributed to each member of the committee prior to the meeting should reach the contact person at the address below by Wednesday, February 27, 2008. Comments must be identified by USCBP-2008-0002 and may be submitted by one of the following methods:

• Federal eRulemaking Portal: http://www.regulations.gov. Follow the instructions for submitting comments.

• E-mail: CBP.Userfeeadvisorycommittee@dhs.gov. Include the docket number in the subject line of the message.

• Facsimile: (202) 344-1818.

• Mail: Ms. Lauren I. Pearce, Office of Finance, U.S. Customs and Border Protection, Department of Homeland Security, 1300 Pennsylvania Avenue, NW., Suite 4.5A, Washington, DC 20229.

Instructions: All submissions received must include the words “Department of Homeland Security” and the docket number for this action. Comments received will be posted without alteration at http://www.regulations.gov, including any personal information provided.

Docket: For access to the docket to read background documents or comments received by the Advisory Committee go to http://www.regulations.gov.

FOR FURTHER INFORMATION CONTACT: Ms. Lauren I. Pearce, Office of Finance, U.S. Customs and Border Protection, Department of Homeland Security, 1300 Pennsylvania Avenue, NW., Suite 4.5A, Washington, DC 20229; telephone number: 202-344-3393; facsimile: 202-344-1818; e-mail: CBP.Userfeeadvisorycommittee@dhs.gov.

SUPPLEMENTARY INFORMATION: Pursuant to the Federal Advisory Committee Act (5 U.S.C., app.), DHS hereby announces the meeting of the U.S. Customs and Border Protection Airport and Seaport Inspections User Fee Advisory Committee (hereinafter, “Advisory Committee”). This Advisory Committee was established pursuant to section 286(k) of the Immigration and Nationality Act (INA), codified at title 8 U.S.C. 1356(k), which references the Federal Advisory Committee Act (5 U.S.C., app.). With the merger of the Immigration and Naturalization Service into the Department of Homeland Security, the Advisory Committee's responsibilities were transferred from the Attorney General to the Commissioner of CBP pursuant to section 1512(d) of the Homeland Security Act of 2002. The Advisory Committee held its first meeting under the direction of CBP on October 22, 2003 (see 68 FR 56301, September 30, 2003). Among other things, this Advisory Committee advises the Department of Homeland Security via the Commissioner of CBP on issues related to the performance of airport and seaport inspections involving agriculture, customs, or immigration based concerns. This advice includes, but is not limited to, issues such as the time period during which such services should be performed and the proper number and deployment of inspection officers. Additionally, this advice includes the level and the appropriateness of the following fees assessed for CBP services: The immigration user fee pursuant to 8 U.S.C. 1356(d), the customs inspection user fee pursuant to 19 U.S.C. 58c(a)(5), and the agriculture inspection user fee pursuant to 21 U.S.C. 136a.

The sixth meeting of the Advisory Committee will be held at the date, time and location specified above. A tentative agenda for the meeting is set forth below.

This meeting is open to the public. Public participation in the deliberations is welcome; however, please note that matters outside of the scope of this committee will not be discussed. Please note that the meeting may close early if all business is finished.

All visitors to the Ronald Reagan Building will have to show a picture ID in order to be admitted into the building. Since seating is limited, all persons attending this event must provide notice, preferably by close of business Wednesday, February 27, 2008, to Ms. Lauren I. Pearce, Office of Finance, U.S. Customs and Border Protection, Department of Homeland Security, 1300 Pennsylvania Avenue, NW., Suite 4.5A, Washington, DC 20229; telephone number: 202-344-3393; facsimile: 202-344-1818; e-mail: CBP.Userfeeadvisorycommittee@dhs.gov.

For information on facilities or services for individuals with disabilities or to request special assistance at the meeting, contact Ms. Lauren I. Pearce as soon as possible.

Tentative Agenda

1. Introduction of Committee members and CBP Personnel.

2. Report of activities since last meeting of June 6, 2007.

3. Discussion of the Electronic Travel Authorization and Model Airports Legislation.

4. Discussion of United States Passenger Accelerated Services System (US PASS).

5. Discussion of the Workload Staffing Model.

6. Overview and discussion of CBP's budget.

7. Discussion of Reimbursable Overtime.

8. Discussion of specific concerns and questions of Committee members.

9. Agree on consensus recommendations on the issues discussed.

10. Discussion of Committee administrative issues and scheduling of next meeting.

11. Adjourn.

Dated: February 11, 2008.
Elaine Killoran,
Acting Assistant Commissioner, Office of Finance, U.S. Customs and Border Protection.

[FR Doc. E8-2769 Filed 2-13-08; 8:45 am]

BILLING CODE 9111-14-P